COMMISSION ON CIVIL RIGHTS

Notice of Public Meeting of the Alaska Advisory Committee

AGENCY: U.S. Commission on Civil Rights.

ACTION: Announcement of public briefing on Alaska Native voting rights.

SUMMARY: Notice is hereby given, pursuant to the provisions of the rules and regulations of the U.S. Commission on Civil Rights (Commission) and the Federal Advisory Committee Act (FACA) that a meeting of the Alaska Advisory Committee (Committee) to the Commission will be held at 9:00 a.m. (Alaska Time) Thursday, August 24, 2017. The purpose of the briefing is for the Committee to receive testimony on Alaska Native voting rights. The Committee will examine the implementation of the Toyukuk v. Treadwell settlement and court order; and the potential impact of mail-in voting. The briefing will be held at Hilton Hotel, 500 West Third Avenue, Anchorage, AK 99501 in the Aleutian Room.

DATES: Thursday, August 24, 2017, from 9:00 a.m. to 5:00 p.m. AKDT

LOCATION: Hilton Hotel, 500 West Third Avenue, Anchorage, AK 99501 in the Aleutian Room.

DATE: The meeting will be held on Thursday, August 24, 2017, from 9:00 a.m. to 5:00 p.m. AKDT

PUBLIC CALL INFORMATION:

Dial: 888-510-1765.

Conference ID: 3264621.

FOR FURTHER INFORMATION CONTACT: Ana Victoria Fortes (DFO) at afortes@usccr.gov or (213) 894-3437.

SUPPLEMENTARY INFORMATION: This meeting is available to the public through the following toll-free call-in number: 888-510-1765, conference ID number: 3264621. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (312) 353-8311, or emailed Ana Victoria Fortes at afortes@usccr.gov. Hearing-impaired persons who will attend the meeting and require the services of a sign language interpreter should contact the Regional Office at least ten (10) working days before the scheduled date of the meeting. Persons who desire additional information may contact the Regional Programs Unit at (213) 894-3437.

Records and documents discussed during the meeting will be available for public viewing prior to and after the meeting at http://facadatabase.gov/committee/meetings.aspx?cid=234.

Please click on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda:

I. Welcome

II. Panel Presentations

III. Public Comment

IV. Adjournment

Dated: July 26, 2017.
David Mussatt,
Supervisory Chief, Regional Programs Unit.

[FR Doc. 2017-16087 Filed 7-31-17; 8:45 am]

BILLING CODE P